DEPARTMENT OF LABOR

Employment and Training Administration

[TA-W-39,976 976A, 976B]

VF Imagewear (West), Inc. Harriman, Tennessee, et.al.; Amended Certification Regarding Eligibility To Apply for Worker Adjustment Assistance

In accordance with section 223 of the Trade Act of 1974 (19 U.S.C. 2273) the Department of Labor issued a Certification of Eligibility to Apply for Worker Adjustment Assistance on October 1, 2001, applicable to workers of VF Imagewear (West), Inc., Harriman, Tennessee. The notice will be published soon in the Federal Register.

At the request of the company, the Department reviewed the certification for workers of the subject firm. The company reports that worker separations have occurred at the Wilmington, North Carolina and Wartburg, Tennessee locations of VF Imagewear (West), Inc. These locations are engaged in the production of industrial work shirts and dress shirts.

Accordingly, the Department is amending the certification to cover the workers of VF Imagewear (West), Inc., Wilmington, North Carolina and Wartburg, Tennessee.

The intent of the Departments's certification is to include all workers of VF Imagewear (West), Inc. who were adversely affected by increased imports.

The amended notice applicable to TA-W-39,976 is hereby issued as follows:

All workers of VF Imagewear (West), Inc., Harriman, Tennessee (TA-W-39,976), Wilmington, North Carolina (TA-W-39,976A) and Wartburg, Tennessee (TA-W-39,976B) who became totally or partially separated from Employment on or after August 22, 2000, through October 1, 2003, are eligible to apply for adjustment assistance under Section 223 of the Trade Act of 1974.

Signed at Washington DC this 22nd day of October, 2001.
Linda G. Poole,
Certifying Officer, Division of Trade Adjustment Assistance.

[FR Doc. 01-27794 Filed 11-5-01; 8:45 am]

BILLING CODE 4510-30-M